DEPARTMENT OF COMMERCE

National Oceanic and Atmospheric Administration

[I.D. 052703B]

Pacific Fishery Management Council; Public Meeting

AGENCY: National Marine Fisheries Service (NMFS), National Oceanic and Atmospheric Administration (NOAA), Commerce.

ACTION: Notice of public meetings.

SUMMARY: The Pacific Fishery Management Council (Council) and its advisory entities will hold public meetings.

DATES: The Council and its advisory entities will meet June 15-20, 2003. See SUPPLEMENTARY INFORMATION for specific dates and times.

ADDRESSES: The meetings and hearing will be held at the Crowne Plaza Hotel, 1221 Chess Drive, Foster City, CA 94404; telephone: 650-570-5700.

Council address: Pacific Fishery Management Council, 7700 NE Ambassador Place, Suite 200, Portland, OR 97220.

FOR FURTHER INFORMATION CONTACT: Dr. Donald O. McIsaac, Executive Director; telephone: (503) 820-2280.

SUPPLEMENTARY INFORMATION: The Council meeting will begin on Monday, June 16, at 3:30 p.m., reconvening each day through Friday. All meetings are open to the public, except a closed session will be held from 3:30 p.m. until 4:15 p.m. on Monday, June 16 to address litigation and personnel matters. The Council will meet as late as necessary each day to complete its scheduled business.

The following items are on the Council agenda, but not necessarily in this order:

A. Call to Order

1. Opening Remarks, Introductions

2. Roll Call

3. Executive Director's Report

4. Approve Agenda

5. Approve March 2003 Minutes

B. Groundfish Management

1. NMFS Report on Groundfish Management

2. Observer Data Implementation Status

3. Stock Assessments and Rebuilding Analyses for 2004 Groundfish Management

4. Preliminary Range of Harvest Levels for 2004

5. Status of Groundfish Fisheries and Initial Policy Consideration of Inseason Adjustments

6. Standards and Criteria Timeline for Approving Exempted Fishing Permits (EFPs)

7. EFP Update and New Proposals for 2004

8. Final Action on Groundfish Inseason Management

9. Implementation of a Vessel Monitoring System

10. Groundfish Stock Assessment Review Process for 2005 through 2006

11. Status of the Groundfish Essential Fish Habitat (EFH) Environmental Impact Statement (EIS)

12. Update on Groundfish Fishery Management Plan (FMP) Programmatic EIS

13. Final Adoption of Amendment 16-1 (Environmental Assessment) and Amendment 16-2 (Draft EIS and Regulatory Analyses) for Darkblotched Rockfish, Pacific Ocean Perch, Canary Rockfish, and Lingcod

14. Adoption of a Proposed Range for 2004 Groundfish Management Measures

15. Alternative Long-term Groundfish Management Strategies

C. Salmon Management

1. Salmon Fishery Update

2. Mitchell Act Update

3. Progress Report on the Establishment of the Model Evaluation Work Group

D. Habitat

1. Current Habitat Issues

E. Coastal Pelagic Species Management

1. NMFS Report

2. Pacific Mackerel Harvest Guidelines for 2003 through 2004

F. Highly Migratory Species Management

1. NMFS Report on Highly Migratory Species Management

2. Potential Reconsideration of FMP Preferred Alternatives for High Seas Longline Fishing Regarding Turtle Impacts

G. Marine Reserves

1. Planning for Federal Waters Portion of the Channel Islands National Marine Sanctuary 2. Central California Sanctuary Processes Including Krill Ban

H. Administrative Matters

1. Legislative Matters

2. Fiscal Matters

3. Appointments to Advisory Bodies, Standing Committees, and Other Forums

4. Staff Work Load Priorities and September 2003 Council Meeting Agenda

SCHEDULE OF ANCILLARY MEETINGS

SUNDAY, JUNE 15, 2003

Groundfish Advisory Subpanel - 1 p.m.

Groundfish Management Team - 1 p.m.

Scientific and Statistical Committee - 1 p.m.

MONDAY, JUNE 16, 2003

Council Secretariat - 8 a.m.

Groundfish Advisory Subpanel - 8 a.m.

Groundfish Management Team - 8 a.m.

Scientific and Statistical Committee - 8 a.m.

Joint Session of the Enforcement Consultants, Groundfish Advisory Subpanel, Groundfish Management Team, and Scientific and Statistical Committee. Briefings on Stock Assessment Reviews for 2004 Groundfish Fisheries and Observer Data Status - 8:30 a.m.- noon

Habitat Committee - 10 a.m.

Legislative Committee - 10 a.m.

Budget Committee - 1 p.m.

TUESDAY, JUNE 17, 2003

Council Secretariat - 7 a.m.

California State Delegation - 7 a.m.

Oregon State Delegation - 7 a.m.

Washington State Delegation - 7 a.m.

Groundfish Advisory Subpanel - 8 a.m.

Groundfish Management Team - 8 a.m.

Scientific and Statistical Committee -8 a.m.

Enforcement Consultants - Immediately following Council session

WEDNESDAY, JUNE 18, 2003

Council Secretariat - 7 a.m.

California State Delegation - 7 a.m.

Oregon State Delegation - 7 a.m.

Washington State Delegation - 7 a.m.

Groundfish Advisory Subpanel - 8 a.m.

Groundfish Management Team -

8 a.m.

Enforcement Consultants - As necessary

THURSDAY, JUNE 19, 2003

Council Secretariat - 7 a.m.

California State Delegation - 7 a.m.

Oregon State Delegation - 7 a.m.

Washington State Delegation - 7 a.m.

Groundfish Advisory Subpanel - 8 a.m.

Groundfish Management Team - 8 a.m.

Enforcement Consultants - As necessary

FRIDAY, JUNE 20, 2003

Council Secretariat - 7 a.m.

California State Delegation - 7 a.m.

Oregon State Delegation - 7 a.m.

Washington State Delegation - 7 a.m.

Groundfish Advisory Subpanel - 8 a.m.

Groundfish Management Team - 8 a.m.

Enforcement Consultants - As necessary

Although non-emergency issues not contained in this agenda may come before this Council for discussion, those issues may not be the subject of formal Council action during this meeting. Council action will be restricted to those issues specifically listed in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Ms. Carolyn Porter at (503) 820-2280 at least 5 days prior to the meeting date.

Dated: May 23, 2003.
Richard W. Surdi,
Acting Director, Office of Sustainable Fisheries, National Marine Fisheries Service.

[FR Doc. 03-13555 Filed 5-29-03; 8:45 am]

BILLING CODE 3510-22-S